NATIONAL SCIENCE FOUNDATION

Sunshine Act Meetings; National Science Board

The National Science Board's Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Thursday, February 6, 2014, 1 p.m.-2 p.m. EST.

SUBJECT MATTER: SCF members will discuss possible recommendations regarding the FY 2013 APR.

STATUS: Closed.

This meeting will be held by teleconference. Please refer to the National Science Board Web site www.nsf.gov/nsb for additional information and schedule updates (time, place, subject matter or status of meeting). Point of contact for this meeting is John Veysey at jveysey@nsf.gov.

Ann Bushmiller,
Senior Counsel to the National Science Board.

[FR Doc. 2014-02366 Filed 1-31-14; 11:15 am]

BILLING CODE 7555-01-P